DEPARTMENT OF TRANSPORTATION

Surface Transportation Board

[STB Docket No. AB-475 (Sub-No. 3X)]

New Hampshire and Vermont Railroad Company Inc.—Discontinuance of Trackage Rights Exemption—in Windsor and Orange Counties, VT, and Grafton County, NH

New Hampshire and Vermont Railroad Company, Inc. (NHVT) has filed a verified notice of exemption under 49 CFR 1152 Subpart F—Exempt Abandonments and Discontinuances of Service and Trackage Rights to discontinue trackage rights over a line of railroad extending between approximately milepost 123.19, in White River Junction, VT, and approximately milepost 163.67, in Woodsville, NH, a total distance of approximately 40.48 miles in Windsor and Orange Counties, VT, and Grafton County, NH (line). The line traverses United States Postal Service Zip Codes 05001, 05047, 05033, 05074, 05081, and 03785.

NHVT has certified that: (1) It has not utilized the track for local or overhead traffic for at least 2 years; (2) any overhead traffic on the line can be rerouted over other lines; (3) no formal complaint filed by a user of rail service on the line (or by a state or local government entity acting on behalf of such user) regarding cessation of service over the line either is pending with the Surface Transportation Board (Board) or with any U.S. District Court or has been decided in favor of complainant within the 2-year period; and (4) the requirement at 49 CFR 1152.50(d)(1) (notice to governmental agencies) has been met.

As a condition to this exemption, any employee adversely affected by the abandonment shall be protected under Oregon Short Line R. Co.—Abandonment— Goshen, 360 I.C.C. 91 (1979). To address whether this condition adequately protects affected employees, a petition for partial revocation under 49 U.S.C. 10502(d) must be filed.

Provided no formal expression of intent to file an offer of financial assistance (OFA) has been received, this exemption will be effective on March 17, 2000, unless stayed pending reconsideration. Petitions to stay ¹ and formal expressions of intent to file an OFA under 49 CFR 1152.27(c)(2),² must be filed by February 28, 2000. Petitions to reopen must be filed by February 16, 2000, with the Surface Transportation Board, Office of the Secretary, Case Control Unit, 1925 K Street, N.W., Washington, DC 20423-0001.

¹ Because this is a discontinuance proceeding and not an abandonment, trail use/rail banking and public use conditions are not appropriate. Likewise, no environmental or historical documentation is required here under 49 CFR 1105.6(c)(6).

² Each offer of financial assistance must be accompanied by the filing fee, which currently is set at $1000. See 49 CFR 1002.2(f)(25).

A copy of any petition filed with the Board should be sent to applicant's representative: David Anderson, 288 Littleton Road, Suite 21, Westford, MA 01886 If the verified notice contains false or misleading information, the exemption is void ab initio.

Board decisions and notices are available on our website at “WWW.STB.DOT.GOV.”

Decided: February 9, 2000.
By the Board, David M. Konschnik, Director, Office of Proceedings.
Vernon A. Williams,
Secretary.

[FR Doc. 00-3529 Filed 2-15-00; 8:45 am]

BILLING CODE 4910-00-P